DEPARTMENT OF AGRICULTURE

Submission for OMB Review; Comment Request

September 23, 2020.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by October 28, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Resource Management and Chemical Use Surveys—Substantive Change.

OMB Control Number: 0535-0218.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

Using the Agricultural Resource Management Survey (ARMS) and the Vegetable Chemical Use Survey, NASS collects environmental data, which includes cropping practices, fertilizer applications, pesticide usage for weeds, insects, fungus, mold, etc., and the use of various pest management practices. Through cooperative agreements with the Economic Research Service and the Office of Pest Management Policy NASS collects additional data to aid in their research. Additional questions were added to the ARMS III questionnaires to measure the impact the COVID-19 pandemic has had on the farming industry in 2020. Complete listings of the questions added, deleted or changed on each questionnaire version are attached to this submission.

The COVID-19 pandemic has altered the modes of data collection. In previous years, NASS has relied primarily on data collection by personal interviews for the ARMS and Chemical Use Surveys. With social distancing, NASS will incorporate a computer assisted web interview (CAWI) along with a computer assisted telephone interview (CATI). Operators will also be able to complete the questionnaire by mail if they choose to. With these changes to data collection modes NASS will postpone the ARMS II and III rice versions until 2021. The remaining versions will be conducted in 2020.

The overall annual, average sample size for the ARMS and Chemical Use program will remain at 131,610. The burden minutes for the ARMS III questionnaires were increased to account for the additional questions added to each version in the previous submission. No additional burden is being added for the changes included in this submission.

A detailed listing of the questions that have been updated are attached to this submission. The delaying of the ARMS II and ARMS III rice surveys until 2021 results in a decrease in respondent burden for 2020 but an increase in 2021 resulting in no changes to the annual average burden under this three year approval.

Need and Use of the Information: The Office of Pest Management Policy (OPMP), the Economic Research Service (ERS), universities, and numerous other State and Federal Agencies will be able to better address changes in the farming practices and chemicals used on these crops that have occurred since the original approval of this docket.

Description of Respondents: Farms.

Number of Respondents: 131,610.

Frequency of Responses: Reporting: Once.

Total Burden Hours: 104,934.

Ruth Brown,
Departmental Information Collection Clearance Officer.

[FR Doc. 2020-21337 Filed 9-25-20; 8:45 am]

BILLING CODE 3410-20-P